ENVIRONMENTAL PROTECTION AGENCY

[ER-FRL-6694-6]

Environmental Impacts Statements; Notice of Availability

Responsible Agency: Office of Federal Activities, General Information (202) 564-7167 or http://www.epa.gov/compliance/nepa/.

Weekly receipt of Environmental Impact Statements

Filed 12/24/2007 Through 12/28/2007

Pursuant to 40 CFR 1506.9.

EIS No. 20070547, Draft Supplement, COE, TX, Central City Project, Proposed Modification to the Authorized Projects which provides Flood Damage Reduction, Habitat Improvement, Recreation and Urban Revitalization, Upper Trinity River Central City, Upper Trinity River Basin, Trinity River, TX, Comment Period Ends: 02/19/2008, Contact: Saji Alummuttil 817-886-1764.

EIS No. 20070548, Final EIS, NPS, CO, Rocky Mountain National Park, Elk and Vegetation Management Plan, Implementation, Grand and Larimer Counties, CO, Wait Period Ends: 02/04/2008, Contact: Vaughn L. Baker 970-586-1206.

EIS No. 20070549, Final EIS, BLM, UT, Chapita Wells-Stagecoach Area Natural Gas Development, Drilling and Production Operations of Natural Gas Wells and Associated Access Road, and Pipelines, Uintah County, UT, Wait Period Ends: 02/04/2008, Contact: Stephanie Howard 435-781-4469.

EIS No. 20070550, Draft EIS, FHW, MN, US-14 Reconstruction Project, Improvement to Truck Highway 14 from Front Street in New Ulm to Nicollet County Road 6 in North Mankato Brown and Nicollet Counties, MN, Comment Period Ends: 03/15/2008, Contact: Cheryl Martin 651-291-6120.

EIS No. 20070551, Final EIS, BLM, UT, Greater Deadman Bench Oil and Gas Producing Region, Proposes to Develop Oil and Gas Resources, Right-of-Way Grants and Applications for Permit to Drill, Vernal, Uintah County, UT, Wait Period Ends: 02/04/2008, Contact: Stephanie Howard 435-781-4469.

EIS No. 20070552, Final EIS, FHW, MN, Scott County State Aid Highway (CSAH) 21 Project, Extension from CSAH 42 in Prior Lake to CSAH 18 at Southbridge Parkway in Shakopee, U.S. Army COE Section 404 Permit, Scott County, MN, Wait Period Ends: 02/04/2008, Contact: Cheryl Martin 651-291-6120.

EIS No. 20070553, Final EIS, BLM, WY, Rawlins Field Office Planning Area Resource Management Plan, Addresses the Comprehensive Analysis of Alternatives for the Planning and Management of Public Land and Resource Administered by (BLM), Albany, Carbon, Laramie and Sweetwater Counties, WY, Wait Period Ends: 02/04/2008, Contact: Ken Peacock 307-775-6113.

EIS No. 20070554, Final EIS, FRC, CO, High Plains Expansion Project, (Docket No. CP07-207-000) Natural Gas Pipeline Facility, Construction and Operation, U.S. Army COE 404, Weld, Adams, and Morgan Counties, CO, Wait Period Ends: 02/04/2008, Contact: Andy Black 1-866-208-3372.

EIS No. 20070555, Draft EIS, DHS, CA, U.S. Border Patrol San Diego Sector, Proposed Construction, Operation, and Maintenance of Tactical Infrastructure, San Diego County, CA, Comment Period Ends: 02/19/2008, Contact: Gregory Giddens 202-344-2450.

EIS No. 20070556, Final EIS, NGB, MS, Camp Shelby Joint Force Training Center, Implementation of Installation Mission Support Activities, Renewal of Special Use Permit, De Soto National Forest, in portions of Forrest, George and Perry Counties, MS, Wait Period Ends: 02/04/2008, Contact: Alisa Dickson 703-607-9620.

EIS No. 20070557, Final EIS, IBW, TX, PROGRAMMATIC—Rio Grande Flood Control Projects, Proposing a Range of Alternatives for Maintenance Activities and Future Improvements, along the Texas-Mexico Border, Wait Period Ends: 02/04/2008, Contact: Daniel Borunda 915-832-4767.

EIS No. 20070558, Final EIS, NPS, VA, Great Falls Park General Management Plan, Implementation, George Washington Parkway, Fairfax County, VA, Wait Period Ends: 2/04/2008, Contact: David Vela 703-289-2500.

Amended Notices

EIS No. 20070450, Draft Supplement, WAP, 00, Big Stone II Power Plant and Transmission Project, Addresses the Impacts of Changes to the Proposed Action relative to Cooling Alternatives and the Use of Groundwater as Backup Water Source, U.S. Army COE Section 10 and 404 Permits, Grant County, SD and Big Stone County, MN , Comment Period Ends: 02/28/2008, Contact: Nancy Werdel 720-962-7251.

Revision of FR Notice Published 10/26/2007: Extending Comment Period from 12/10/2007 to 02/28/2008

EIS No. 20070484, Draft EIS, FHW, 00, Interstate-94, I-43, I-894, and WI-119 (Airport Spur) I-94/USH 41 Interchange to Howard Avenue, To Address Freeway System's Deteriorated Conditions, Funding and U.S. Army COE Section 404 Permit, Kenosha, Racine and Milwaukee Counties, WI and Lake County, IL, Comment Period Ends: 01/25/2008, Contact: David Scott 608-829-7522.

Revision Notice Published on 11/16/2007: Extending Comment Period from 12/31/2007 to 01/25/2008

Dated: December 31, 2007.
Clifford Rader,
Environmental Protection Specialist, Office of Federal Activities.

[FR Doc. E7-25638 Filed 1-3-08; 8:45 am]

BILLING CODE 6560-50-P